DEPARTMENT OF JUSTICE

Office of Justice Programs

[OJP(NIJ)-1361]

Meeting Notice for the Attorney General's Initiative on DNA Laboratory Backlog Working Group

AGENCY: Office of Justice Programs, National Institute of Justice, Justice.

ACTION: Notice of meeting.

SUMMARY: Announcement of a meeting of the Attorney General's Initiative on DNA Laboratory Backlog Working Group.

SUPPLEMENTARY INFORMATION: The working group meeting of the Attorney General's Initiative on DNA Laboratory Backlogs will take place beginning on October 21, 2002 at 1 p.m. Eastern Daylight Time and will continue on October 22, 2002 at 9 a.m. Eastern Daylight Time. The meeting will take place at the Courtyard by Marriott located at 2899 Jefferson Davis Highway, Arlington, Virginia. Phone: 703-549-3434.

This meeting will be open to the public.

FOR FURTHER INFORMATION CONTACT: Dr. Lisa Forman, Director, Investigative and Forensic Sciences Division, Office of Science and Technology, National Institute of Justice (202) 307-6608.

SUPPLEMENTARY INFORMATION:

Authority

This action is authorized under the Omnibus Crime Control and Safe Streets Act of 1968, §§ 201-03, as amended, 42 U.S.C. 3721-23 (1994).

Sarah V. Hart,
Director, National Institute of Justice.

[FR Doc. 02-24157 Filed 9-20-02; 8:45 am]

BILLING CODE 4410-18-P